FEDERAL ELECTION COMMISSION

Sunshine Act; Notice of Meeting

* * * * *

Previously Announced Date and Time: Thursday, February 27, 2003, meeting open to the public. This meeting was cancelled.

* * * * *

Previously Announced Date and Time: Thursday, March 6, 2003: The following item has been added to the agenda: Administrative fines—final rules and explanation and justification.

* * * * *

Previously Announced Date and Time: Friday, March 14, 2003, meeting open to the public. This meeting was cancelled.

* * * * *

Date and Time: Tuesday, March 18, 2003, at 10 a.m.

Place: 999 E Street, NW., Washington, DC.

Status: This meeting will be closed to the public.

Items to be Discussed: Compliance matters pursuant to 2 U.S.C. 437g.

Audits conducted pursuant to 2 U.S.C. 437g, 438(b), and title 26, U.S.C.

Matters concerning participation in civil actions or proceedings or arbitration.

Internal personnel rules and procedures or matters affecting a particular employee.

* * * * *

Date and Time: Thursday, March 20, 2003, at 10 a.m.

Place: 999 E Street, NW., Washington, DC. (ninth floor).

Status: This meeting will be open to the public.

Items to be Discussed: Correction and approval of minutes.

Notice of proposed rulemaking on public funding of Presidential primary and general election candidates and conventions.

Administrative matters.

Person to Contact for Information: Mr. Ron Harris, Press Officer, Telephone: (202) 694-1220.

Mary W. Dove,
Secretary of the Commission.

[FR Doc. 03-6175 Filed 3-11-03; 2:36 pm]

BILLING CODE 6715-01-M